DEPARTMENT OF HEALTH AND HUMAN SERVICES

Administration for Children and Families

Office of Community Services; Program Announcement for Assets for Independence Program Grants

Notice of amendment to the standing announcement for Assets for Independence Demonstration Program Grants, HHS-2005-ACF-OCS-EI-0053, CFDA # 93.602, published in the Federal Register, Volume 70, No. 26, page 6879-6888, on February 9, 2005.

AGENCY: Office of Community Services (OCS), Administration for Children and Families (ACF), U.S. Department of Health and Human Services.

ACTION: Notice of amendment.

The Program Announcement concerning the application procedures for the Assets for Independence Demonstration Program grants published on February 9, 2005 in the Federal Register, Volume 70, No. 26, pages 6879-6888 is hereby modified.

SUMMARY: On February 9, 2005, the Office of Community Services (OCS), Administration for Children and Families (ACF), U.S. Department of Health and Human Services published an announcement seeking applications for the Assets for Independence Demonstration Program. This program provides grant support for Individual Development Account (IDA) projects administered by government agencies and non-profit organizations. This Notice amends the final Fiscal Year (FY) 2006 application due date.

This Notice announces a change in the final FY 2006 application due date from June 15, 2006 to July 18, 2006. This Notice also announces two conference call series. The first series will provide an overview of the Assets for Independence Demonstration Program, including application procedures and requirements. The second series will provide an orientation to administering effective Individual Development Account (IDA) projects with support from the Assets for Independence Demonstration Program.

The Program Announcement for the Assets for Independence Demonstration Program is a standing announcement. It is effective until canceled or changed by the Office of Community Services (OCS). Applicants may submit applications at any time throughout the year. (Any changes to application due dates in successive years will be announced through publication of a Notice in the Federal Register, on the ACF Grant Opportunities Web page at http://www.acf.hhs.gov/grants/index.html, and on http://www.Grants.gov.) OCS will review and make funding decisions about applications in three separate funding cycles annually.

For FY 2006, the due dates are: November 1, 2005; March 15, 2006; and July 18, 2006. For example, starting in mid-March, OCS reviews all applications submitted November 2 through March 15. Starting in mid-July, OCS reviews all applications submitted March 16 through July 18. And, starting in early November, OCS reviews all applications submitted July 19 through November 1. Unsuccessful applicants may submit a new application in any succeeding application period.

(1) Under the Executive Summary section of the original Program Announcement, please delete the following:

The Administration for Children and Families, Office of Community Services (OCS) will accept applications for financial assistance to establish and administer Assets for Independence (AFI) Projects. These projects assist low-income people in becoming economically self-sufficient. They do so by teaching project participants about economic and consumer issues and enabling them to establish matched savings accounts called Individual Development Accounts (IDA) in order to save for a first home, a business, or higher education. Grantees must participate in an on going national evaluation of the impact of AFI Projects and IDAs.

This is a standing announcement. It is effective until canceled or changed by the Office of Community Services. Applicants may submit applications at any time throughout the year. OCS will review and make funding decisions about applicants submitted by any of three due dates: March 15, June 15 and November 1. (If a date falls on a weekend, the due date will be the following Monday.) For example, starting in mid-March annually, OCS will review all applications submitted November 2 through March 15. Starting in early June, OCS will review all applications submitted March 16 through June 15. And, starting in early November, OCS will review all applications submitted June 16 through November 1. Unsuccessful applicants may submit a new application in any succeeding application period.

Please replace the deleted paragraphs under the Executive Summary section of the original Program Announcement with the following:

The Administration for Children and Families (ACF), Office of Community Services (OCS) will accept applications for financial assistance to establish and administer Assets for Independence (AFI) Projects. These projects assist people with low incomes to become economically self-sufficient. They do so by teaching project participants about economic and consumer issues and enabling them to establish matched savings accounts called Individual Development Accounts (IDA) in order to save for a first home, a business, or higher education. Grantees must participate in an on going national evaluation of the impact of AFI Projects and IDAs.

This is a standing announcement. It is effective until canceled or changed by the Office of Community Services. Applicants may submit applications at any time throughout the year. OCS will review and make funding decisions about applicants submitted by any of three due dates in FY 2006: November 1, 2005; March 15, 2006; and July 18, 2006. Unsuccessful applicants may submit a new application in any succeeding application cycle.

(2) Under Priority Area 1, Section I. Funding Opportunity Description of the original Program Announcement please delete the following:

The Administration for Children and Families, Office of Community Services (OCS) will accept applications for financial assistance to establish and administer Assets for Independence (AFI) Projects. These projects assist low-income people in becoming economically self-sufficient. They do so by teaching project participants about economic and consumer issues and enabling them to establish matched savings accounts called Individual Development Accounts (IDA) in order to save for a first home, a business or higher education. Grantees must participate in an ongoing national evaluation of the impact of AFI Projects and IDAs.

This is a standing announcement. It is effective until canceled or changed by the Office of Community Services. Applicants may submit applications at any time throughout the year. OCS will review and make funding decisions about applicants submitted by any of three due dates: March 15, June 15, and November 1. (If a date falls on a weekend, the due date will be the following Monday.) For example, starting in mid-March annually, OCS will review all applications submitted November 2 through March 15. Starting in early June, OCS will review all applications submitted March 16 through June 15. And, starting in early November, OCS will review all applications submitted June 16 through November 1. Unsuccessful applicants may submit a new application in any succeeding application period.

Please replace the deleted paragraphs under Priority Area 1, Section I. Funding Opportunity Description with the following:

The Administration for Children and Families (ACF), Office of Community Services (OCS) will accept applications for financial assistance to establish and administer Assets for Independence (AFI) Projects. These projects assist people with low incomes to become economically self-sufficient. They do so by teaching project participants about economic and consumer issues and enabling them to establish matched savings accounts called Individual Development Accounts (IDA) in order to save for a first home, a business, or higher education. Grantees must participate in an on going national evaluation of the impact of AFI Projects and IDAs.

This is a standing announcement. It is effective until canceled or changed by the Office of Community Services. Applicants may submit applications at any time throughout the year. OCS will review and make funding decisions about applicants submitted by any of three due dates in FY 2006: November 1, 2005; March 15, 2006; and July 18, 2006. Unsuccessful applicants may submit a new application in any succeeding application cycle.

(3) Please insert the following in Section VIII. Other: The Office of Community Services announces Two Informational Conference Call Series: The Office of Community Services, through its Assets for Independence Resource Center, will sponsor a series of Overview Conference Calls featuring general information about the program and the application requirements and procedures. These calls will be held on May 9, May 16, and May 23, 2006 at 2-3:30 p.m., eastern daylight time.

The Resource Center will also host a series of Orientation Conference Calls with information and tips on administering effective Individual Development Account projects supported by the Assets for Independence Demonstration Program. These calls are scheduled for May 11, May 17, May 18, May 25, June 1, June 7 and June 8, 2006. Each of the calls will be held from 2-3:30 p.m., eastern daylight time. The Resource Center may also schedule additional calls.

Please go to the OCS Asset Building Web site at http://www.acf.hhs.gov/assetbuilding for a schedule of calls and other details. The Web site also includes dial-in numbers and pre-registration information. Participants are strongly encouraged to pre-register, as the number of lines is limited. The Resource Center will provide background information to all individuals who pre-register.

All information in this Notice of amendment is accurate and replaces information specified in the February 9, 2005 Notice, the Notice of correction published on June 10, 2005, and the notice of amendment published on November 17, 2005.

Announcement Availability: The Assets for Independence Demonstration Program announcement and all application materials are available at http://www.Grants.gov. Standard forms and certifications may also be found at http://www.acf.hhs.gov/programs/ofs/forms.htm. Finally, the OCS Asset Building Web site at http://www.acf.hhs.gov/assetbuilding provides extensive information about the Assets for Independence Demonstration Program and the application process. The page includes links to all required forms, a guidebook for developing an AFI Project, and information on applying for an AFI grant.

FOR FURTHER INFORMATION CONTACT: James Gatz, Manager, Assets for Independence Demonstration Program, Telephone: (202) 401-4626 or E-mail: AFIProgram@acf.hhs.gov. An array of helpful information about the program and the two conference call series is posted on the OCS Asset Building Web site at http://www.acf.hhs.gov/assetbuilding.

Dated: April 28, 2006.
Robert Velasco II,
Acting Director, Office of Community Services.

[FR Doc. E6-6784 Filed 5-4-06; 8:45 am]

BILLING CODE 4184-01-P